ENVIRONMENTAL PROTECTION AGENCY

[EPA-HQ-OECA-2014-0039; FRL-9931-58-OEI]

Information Collection Request Submitted to OMB for Review and Approval; Comment Request; NSPS for Nonmetallic Mineral Processing (Renewal)

AGENCY: Environmental Protection Agency (EPA).

ACTION: Notice.

SUMMARY: The Environmental Protection Agency has submitted an information collection request (ICR), “NSPS for Nonmetallic Mineral Processing (40 CFR part 60, subpart OOO) (Renewal)” (EPA ICR No. 1084.13, OMB Control No. 2060-0050) to the Office of Management and Budget (OMB) for review and approval in accordance with the Paperwork Reduction Act (44 U.S.C. 3501 et seq.). This is a proposed extension of the ICR, which is currently approved through July 31, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 31, 2015.

ADDRESSES: Submit your comments, referencing Docket ID Number EPA-HQ-OECA-2014-0039, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is (202) 566-1744. For additional information about EPA's public docket, visit www.epa.gov/dockets.

Abstract: The affected entities are subject to the General Provisions of the NSPS at 40 CFR part 60, subpart A, and any changes, or additions to the Provisions specified at 40 CFR part 60, subpart OOO. Owners or operators of the affected facilities must submit initial notification, performance tests, and periodic reports and results. Owners or operators are also required to maintain records of the occurrence and duration of any startup, shutdown, or malfunction in the operation of an affected facility, or any period during which the monitoring system is inoperative.

Form Numbers: None.

Respondents/affected entities: Nonmetallic mineral processing facilities.

Respondent's obligation to respond: Mandatory (40 CFR part 60, subpart OOO).

Estimated number of respondents: 4,896 (total).

Frequency of response: Initially and occasionally.

Total estimated burden: 14,120 hours (per year). Burden is defined at 5 CFR 1320.3(b).

Total estimated cost: $1,648,000 (per year), includes $228,000 annualized capital or operation & maintenance costs.

Changes in the Estimates: There is an increase in the respondent burden from the most recently approved ICR. This increase is not due to any program changes. The previous ICR reflected burdens and costs associated with initial activities for subject facilities, including performance testing and establishing recordkeeping systems. This ICR accounts for the additional burden incurred by existing sources that must conduct five-year performance testing during this ICR period. This ICR also reflects an increase in the total number of respondents due to industry growth. The overall result is an increase in total burden hours and costs.

EPA has also updated the capital/startup and O&M costs to reflect the additional costs incurred by existing sources that must conduct five year performance tests. This adjustment resulted in an overall increase in the total capital/startup and O&M cost.

There is a decrease in Agency burden from the most recently approved ICR. The previous ICR's burden calculations largely overestimated the number of existing sources submitting performance test reports to EPA. We have adjusted the number of sources accordingly. This adjustment resulted in the overall decrease in the Agency burden.

Courtney Kerwin,
Acting Director, Collection Strategies Division.

[FR Doc. 2015-18661 Filed 7-29-15; 8:45 am]

BILLING CODE 6560-50-P